DEPARTMENT OF DEFENSE

Department of the Navy

Notice of Intent To Prepare an Environmental Impact Statement for Navy Old Town Campus Revitalization at Naval Base Point Loma, California, and To Announce Public Scoping Meetings

AGENCY: Department of the Navy, DoD.

ACTION: Notice.

SUMMARY: Pursuant to Section 102(2)(C) of the National Environmental Policy Act (NEPA) of 1969, as implemented by the Council on Environmental Quality Regulations, the Department of the Navy (Navy) announces its intent to prepare an Environmental Impact Statement (EIS) to evaluate the potential environmental effects associated with revitalization of the Navy Old Town Campus (OTC) to support Naval Information Warfare Systems Command's (NAVWAR) current and future operational readiness. This EIS will also address provisions of the California Environmental Quality Act (CEQA) as it relates to non-federal development within the proposed alternatives. An EIS is considered the appropriate document for comprehensively analyzing the proposed action to demolish and construct buildings, utilities, and infrastructure at the OTC, Naval Base Point Loma, California. Specific proposed actions within the OTC proposal could include Navy recapitalization of the site or redevelopment through a public-private partnership.

DATES: The Navy is initiating a 30-day public scoping process to identify community interests and specific issues for analysis in the EIS. This public scoping process starts with the publication of this Notice of Intent. The Navy is planning two public scoping meetings to receive written comments on issues for analysis in the EIS. All public comments are due by February 24, 2020.

ADDRESSES: The meetings will be held in the following locations (all times local):

1. February 13, 2020, 4:00 p.m. to 7:00 p.m., Liberty Station Conference Center, Main Hall, Door A, 2600 Laning Road, San Diego, California 92106-6427.

2. February 19, 2020, 4:00 p.m. to 7:00 p.m., Liberty Station Conference Center, Main Hall, Door A, 2600 Laning Road, San Diego, California 92106-6427.

Additional information concerning meeting times and locations is available on the EIS website at www.navwar-revitalization.com. The Navy will announce public scoping meeting dates, times, and locations in the local news media.

Public scoping meetings will include open house sessions, with information stations staffed by Navy representatives. The Navy will collect comments during each of the two public scoping meetings. Written comments can also be made electronically on the project website.

FOR FURTHER INFORMATION CONTACT: Naval Facilities Engineering Command Southwest, Navy OTC Revitalization EIS Project Manager, Attn: Mr. Ron Bochenek, 1220 Pacific Highway (Code EV21.RB), San Diego, California 92132-5101; telephone: 619-379-3860.

SUPPLEMENTARY INFORMATION: The U.S. Army Air Corps first used the OTC site in 1940. Use of the site transitioned to the United States Air Force in 1947. General Dynamics Corporation operated the facility, known as Air Force Plant 19, from approximately 1940 to the mid-1970s, using it primarily for aircraft production. Beginning in the late 1970s, subassembly activities for various missile production programs replaced aircraft assembly as the primary function of the facility. In 1994, the Air Force transferred ownership of the property to the U.S. Navy (with oversight given to Naval Base Point Loma) and manufacturing activities focused on space launch vehicle assembly as conducted by various military contractors.

NAVWAR established the OTC site as their headquarters in 1996, with a mission focus of naval communications and space programs. Site activities have since grown to include development, acquisition, and life cycle management of command, control, communications, computers, intelligence, surveillance, and reconnaissance systems for Navy, Marine Corps, and selected joint service, allied nation, and other government agency programs.

The existing OTC facilities are beyond their useful life and their degradation is affecting NAVWAR's cyber warfare mission, security, and workforce safety. The Navy requires secure, safe, modern state-of-the-art space to support NAVWAR's mission requirements. NAVWAR proposes to revitalize the OTC, which would include the demolition of existing facilities and construction of new buildings, utilities, and infrastructure to provide mission capable facilities for NAVWAR on OTC.

NAVWAR's mission requirements include 1,064,268 square feet (SF) of space, as follows:

845,326 SF of office space;

29,156 SF of secure conference and auditorium space;

24,172 SF of warehouse/storage space; and

165,614 SF of lab space.

Parking will also be required for personnel working at OTC, either on site or at a separate nearby location.

During development of the NAVWAR's mission requirements, the Navy identified a portion of the existing OTC facilities, primarily open storage/laydown and warehouse space, could be accommodated at an off-site location. This EIS does not address the potential NAVWAR off-site facilities relocation. Therefore, subsequent NEPA may be required if alternative selection results in utilization of an off-site location.

The purpose of and need for the Proposed Action is to address substandard, inefficient, and obsolete facilities that are incapable of meeting and sustaining NAVWAR's mission requirements. Current facilities are beyond their useful life and negatively affect NAVWAR's cyber warfare mission, security, and workforce safety. NAVWAR requires secure, safe, efficient, modern, state-of-the-art facilities to meet information technology, artificial intelligence, and cyber warfare operational needs as a central component to NAVWAR's mission in defense of our Nation.

In September 2018, the Navy issued a Request for Interest (RFI) to evaluate the availability and adequacy of potential business sources to revitalize the OTC site through a public-private partnership. In November 2018, the Navy held an industry day to solicit responses to the RFI and highlight the Navy's willingness to consider all types of concepts to achieve Navy goals for revitalizing the OTC, including long-term leases, a land exchange, or sale. The RFI process resulted in twelve responses, four of which contained substantive market research. After considering the proposals received on the RFI, feedback received at industry day, and subsequent discussions with internal and external stakeholders, the Navy entered into an agreement with the San Diego Association of Governments (SANDAG) on September 19, 2019, to conduct a planning process intended to lead to the redevelopment of the OTC, to include a potential Transit Center and the redevelopment of NAVWAR facilities. SANDAG's proposed Transit Center would improve multimodal regional transportation efficiency for the residents and visitors of the greater San Diego area, and would support NAVWAR's mission by providing access that is more efficient to industry partners and transportation. SANDAG is considering various conceptual transportation solutions for improved regional airport connectivity; some of the concepts under consideration include possible construction at the NAVWAR facility, others do not. In consideration of the fact that Navy may proceed without SANDAG if SANDAG and the Navy do not agree to move forward with redevelopment of the site to include a Transit Center, the Navy has developed five preliminary alternatives in addition to the No Action alternative for revitalizing the OTC.

Alternative 1 (Navy Recapitalization at OTC) would consist of revitalization of the OTC to meet NAVWAR's facility requirements with Navy-funded capital improvements only. This would potentially include consolidating NAVWAR operations into two of the existing 310,000 SF buildings (Buildings 2 and 3) on OTC Site 1.

Alternative 2 (High-Density Mixed Use Revitalization) would consist of construction of new Navy facilities for NAVWAR on the OTC site through an agreement with a public-private partner, and the relocation of some warehouse functions to a separate off-site location.

Alternative 3 (Low-Density Mixed Use Revitalization) would be similar to Alternative 2, but the development scenario for private development would be reduced. The development requirements for NAVWAR would be the same as under Alternative 2.

Alternative 4 (High-Density Mixed Use Revitalization Including a Transit Center) would be similar to Alternative 2, but a portion of the OTC site would be developed as a transit center. The development requirements for NAVWAR would be the same as under Alternative 2.

Alternative 5 (Low-Density Mixed Use Revitalization Including a Transit Center) would be similar to Alternative 2, but a portion of the OTC site would be developed as a transit center and the development scenario for private development would be reduced. The development requirements for NAVWAR would be the same as under Alternative 2.

Alternative 6 (No Action Alternative) would be no change from status quo. The Navy would continue to maintain and repair the existing facilities, and NAVWAR would continue to operate at the OTC site as is.

Environmental issues and resources to be examined and addressed in the EIS include, but are not limited to: Air Quality (including environmental effects analyses pursuant to CEQA for greenhouse gases/Climate Change and Odor), Transportation, Visual Resources, Land Use (including Agricultural Resources for CEQA), Socioeconomics (including Growth Inducing Impacts for CEQA), Cultural Resources (including Paleontology for CEQA), Hazardous Materials and Waste, Public Health and Safety (including Wildfire for CEQA), Environmental Justice, Infrastructure (including Schools, Utilities and Energy Consumption for CEQA), Airspace, Noise, Geology (including Mineral Resources for CEQA), Water Resources, and Biological Resources. The EIS will also analyze measures that would avoid or mitigate environmental effects. Additionally, the Navy will undertake any coordination and consultation activities required by the National Historic Preservation Act.

The Navy encourages interested persons to submit comments concerning the alternatives proposed for study, and environmental issues for analysis in the EIS. Federal, State, local, and Tribal agencies, and interested persons are encouraged to provide comments to the Navy to identify specific environmental issues or topics of environmental concern that the Navy should consider when developing the Draft EIS. The Navy will prepare the Draft EIS, incorporating issues identified by the commenting public. All comments received during the public scoping period will receive consideration during EIS preparation.

Mailed comments on the scope of the EIS should be postmarked no later than February 24, 2020. Comments may be mailed to: Naval Facilities Engineering Command Southwest, Navy OTC Revitalization EIS Project Manager, Attn: Mr. Ron Bochenek, 1220 Pacific Highway (Code EV21.RB), San Diego, California 92132-5101. Interested parties can also submit comments via the EIS website at www.navwar-revitalization.com.

Dated: January 20, 2020.
D.J. Antenucci,
Commander, Judge Advocate General's Corps, U.S. Navy, Federal Register Liaison Officer.

[FR Doc. 2020-01144 Filed 1-23-20; 8:45 am]

BILLING CODE 3810-FF-P